DEPARTMENT OF THE INTERIOR

Bureau of Land Management

[BLM_ID_FRN_MO4500167850]

Notice of Temporary Road Closure on Public Lands in Nez Perce County, ID

AGENCY: Bureau of Land Management, Interior.

ACTION: Notice of temporary closure.

SUMMARY: Notice is hereby given that a temporary closure will be in effect to all public use and entry on certain public lands administered by the Cottonwood Field Office, Bureau of Land Management (BLM), to provide for public health and safety during the reconstruction of the single-lane Eagle Creek Road.

DATES: The temporary closure will be in effect for up to one year, from 12:01 a.m. Mountain Time, May 24, 2023, or until the completion of construction, whichever is sooner.

ADDRESSES: The BLM will post closure signs at main entry points to this area. This closure order will be posted in the Cottonwood Field Office. Maps of the affected area and other documents associated with this closure are available at the Cottonwood Field Office, 2 Butte Dr., Cottonwood, ID 83522 and online at https://eplanning.blm.gov/eplanning-ui/project/2005917/510.

FOR FURTHER INFORMATION CONTACT: Richard White, Field Manager, Cottonwood Field Office, 2 Butte Drive, Cottonwood, ID 83522, or by phone at (208) 962-3245, or by email at rwhite@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: During the temporary closure, access to public lands via Eagle Creek Road will be unavailable on weekdays and occasionally on weekends to protect public health and to address safety risks associated with the reconstruction of Eagle Creek Road. The road will be open for use by the public on most weekends, after 5 p.m. Mountain Time (MT) Fridays through 8 a.m. MT, Mondays, depending upon the work schedule.

This closure affects public lands in the Craig Mountain Wildlife Management Area. The affected public lands encompass Eagle Creek Road from mile post 0.0, T. 32 N., R. 4 W., Section 22, to its intersection with China Creek at T. 30 N., R. 3 W., Section 5, Boise Meridian, Nez Perce County, ID. The area described is approximately 15 miles in length.

A Decision Record was signed on March 18, 2022, for the Eagle Creek Road and Bridges Maintenance Project Categorical Exclusion (DOI-BLM-ID-C020-2020-0007-CX). Under the authority of section 303(a) of the Federal Land Policy and Management Act of 1976 (43 U.S.C. 1733(a)), 43 CFR 8360.0-7, and 43 CFR 8364.1, the BLM will enforce the following temporary closure and restrictions of Eagle Creek Road.

Exemptions: This temporary closure does not apply to Federal, State, and local officers and employees in the performance of their official duties; members of organized rescue or firefighting forces in the performance of their official duties; and persons with written authorization from the BLM.

Enforcement: Any person who violates the temporary closures may be tried before a United States magistrate and fined in accordance with 18 U.S.C. 3571, imprisoned no more than 12 months under 43 U.S.C. 1733(a) and 43 CFR 8360.0-7, or both. In accordance with 43 CFR 8365.1-7, State or local officials may also impose penalties for violations of Idaho law.

Effect of Closure: The entire area described in this notice is temporarily closed to all public use, including but not limited to pedestrians, equestrians, motorized and non-motorized vehicles, unless specifically excepted as described above, until construction has been completed, or one year from date of publication of this notice, whichever is earlier.

(Authority: 43 CFR 8364.1)

Kurt Pindel,
BLM, Coeur d'Alene District Manager.

[FR Doc. 2023-08575 Filed 4-21-23; 8:45 am]

BILLING CODE 4331-19-P